TENNESSEE VALLEY AUTHORITY

Meeting of the Regional Energy Resource Council

AGENCY: Tennessee Valley Authority (TVA).

ACTION: Notice of meeting.

SUMMARY: The TVA Regional Energy Resource Council (RERC) will hold a meeting on December 12, 2023, regarding regional energy related issues in the Tennessee Valley.

DATES: The meeting will be held virtually, on Tuesday, December 12, 2023, from 2 p.m. to 3:30 p.m. EST. To view the webinar, the public must visit https://events.gcc.teams.microsoft.com/event/55132b7c-a2dc-45ed-ae3b-4bc87b3344d2@270992cd-9003-4971-84de-d1640c0bffc5 to register for the webinar. This link and instructions to view the meeting will be posted on TVA's RERC website at www.tva.gov/rerc.

ADDRESSES: The meeting will be fully virtual, and the meeting link is provided at https://events.gcc.teams.microsoft.com/event/55132b7c-a2dc-45ed-ae3b-4bc87b3344d2@270992cd-9003-4971-84de-d1640c0bffc5. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

December 12

1. Welcome and Introductions

2. IRP Process Update

3. IRP Scenarios and Strategies

Written comments are invited and may be emailed to bhaliti@tva.gov.

Dated: November 27, 2023.
Melanie Farrell,
Vice President, External Stakeholders and Regulatory Oversight, Tennessee Valley Authority.

[FR Doc. 2023-26452 Filed 11-30-23; 8:45 am]

BILLING CODE 8120-08-P